FEDERAL COMMUNICATIONS COMMISSION

47 CFR Part 73

[DA No. 00-143; MM Docket No. 98-176; RM-9363]

Radio Broadcasting Services; Cedar Park and Killeen, TX

AGENCY: Federal Communications Commission.

ACTION: Final rule.

SUMMARY: This document reallots Channel 227C from Killeen, Texas, to Cedar Park, Texas, and modifies the license for Station KLNCFM), Killeen, to specify operation at Cedar Park, in response to a petition filed by LBJS Broadcasting Company, LP. See 63 FR 53008, October 2, 1998. The coordinates for Channel 227C at Cedar Park are 30-43-34 NL and 97-59-23 WL. With this action, this proceeding is terminated.

DATES: Effective March 20, 2000.

FOR FURTHER INFORMATION CONTACT: Kathleen Scheuerle, Mass Media Bureau, (202) 418-2180.

SUPPLEMENTARY INFORMATION: This is a summary of the Commission's Report and Order, MM Docket No. 98-176, adopted January 19, 2000, and released February 2, 2000. The full text of this Commission decision is available for inspection and copying during normal business hours in the Commission's Reference Center, 445 Twelfth Street, SW, Washington, D.C. 20554. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Texas, is amended by removing Channel 227C at Killeen and adding Cedar Park, Channel 227C.

Federal Communications Commission.
John A. Karousos,
Chief, Allocations Branch, Policy and Rules Division, Mass Media Bureau.

[FR Doc. 00-3643 Filed 2-15-00; 8:45 am]

BILLING CODE 6712-01-P